DEPARTMENT OF ENERGY

Federal Energy Regulatory Commission

[Project No. 12470-001]

Notice of Application Accepted for Filing and Soliciting Motions To Intervene and Protests

November 30, 2006.

Take notice that the following hydroelectric application has been filed with the Commission and is available for public inspection.

a. Type of Application: Original Major License.

b. Project No.: 12470-001.

c. Date Filed: July 26, 2006.

d. Applicant: City of Broken Bow, Oklahoma.

e. Name of Project: Broken Bow Re-Regulation Dam Hydropower Project.

f. Location: On the Mountain Fork River in McCurtain County, Oklahoma. The project would be located at the United States Army Corps of Engineers' (Corps) Broken Bow Re-Regulation Dam and would occupy lands administered by the Corps.

g. Filed Pursuant to: Federal Power Act 16 U.S.C. §§ 791 (a)-825(r).

h. Applicant Contact: Olen Hill, City Manager, City of Broken Bow, Oklahoma, 210 North Broadway, Broken Bow, Oklahoma 74728; (405) 584-2282.

i. FERC Contact: Peter Leitzke at (202) 502-6059, or peter.leitzke@ferc.gov.

j. Deadline for filing motions to intervene and protests: February 5, 2007.

All documents (original and eight copies) should be filed with: Magalie R. Salas, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filing. See 18 CFR 385.2001(a)(1)(iii) and the instructions on the Commission's Web site (http://www.ferc.gov) under the “e-Filing” link.

k. This application has been accepted for filing, but is not ready for environmental analysis at this time.

l. Description of Project: The proposed run-of-river project, using the Corps' existing Broken Bow Re-Regulation Dam and Reservoir, would consist of: (1) Three 93.5-foot-long penstocks connecting to; (2) a 112-foot-wide by 129-foot-long powerhouse containing three turbine-generator units and having a total installed capacity of 4 megawatts; (3) a tailrace returning flows to the Mountain Fork River; (4) a 1,600-foot-long, 13.8-kilovolt transmission line or a 3.5-mile-long, 13.8 kilovolt transmission line; and (5) appurtenant facilities. The project would have an average annual generation of 17,450 megawatt-hours.

m. A copy of the application is available for review at the Commission in the Public Reference Room or may be viewed on the Commission's Web site at http://www.ferc.gov using the “eLibrary” link. Enter the docket number, excluding the last three digits in the docket number field (P-12470), to access the document. For assistance, contact FERC Online Support at FERCOnlineSupport@ferc.gov, or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

n. Any qualified applicant desiring to file a competing application must submit to the Commission, on or before the specified deadline date for the particular application, a competing development application, or a notice of intent to file such an application. Submission of a timely notice of intent allows an interested person to file a competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must: (1) Bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following revised Hydro Licensing Schedule. Revisions to the schedule will be made if the Commission determines it necessary to do so:

Action | Tentative date
Issue Scoping Document for comments | January 2007.
Notice that application is ready for environmental analysis | April 2007.
Notice of the availability of the draft EA | October 2007.
Notice of the availability of the final EA (if necessary) | April 2008.

Magalie R. Salas,
Secretary.

[FR Doc. E6-20807 Filed 12-7-06; 8:45 am]

BILLING CODE 6717-01-P